DEPARTMENT OF ENERGY

Federal Energy Regulatory Commission

Combined Notice Of Filings #2

Take notice that the Commission received the following electric rate filings:

Docket Numbers: ER15-527-003.

Applicants: PJM Interconnection, L.L.C.

Description: Compliance filing: Compliance Filing per 9/24/15 Order in Docket No. ER15-527 to be effective 5/15/2015.

Filed Date: 11/23/15.

Accession Number: 20151123-5190.

Comments Due: 5 p.m. ET 12/14/15.

Docket Numbers: ER16-95-001.

Applicants: Midcontinent Independent System Operator, Inc.

Description: Tariff Amendment: 2015-11-23_SA 2834 Amended ATC-NSPW Design and Construction Agreement to be effective 12/15/2015.

Filed Date: 11/23/15.

Accession Number: 20151123-5151.

Comments Due: 5 p.m. ET 12/14/15.

Docket Numbers: ER16-128-001.

Applicants: Midcontinent Independent System Operator, Inc.

Description: Tariff Amendment: 2015-11-23_SA 2855 Amended ATC-Manitowoc Relocation Agreement to be effective 12/20/2015.

Filed Date: 11/23/15.

Accession Number: 20151123-5160.

Comments Due: 5 p.m. ET 12/14/15.

Docket Numbers: ER16-375-000.

Applicants: PJM Interconnection, L.L.C.

Description: Tariff Cancellation: Notice of Cancellation of WMPA SA No. 3740, Queue No. X1-110 to be effective 11/23/2015.

Filed Date: 11/23/15.

Accession Number: 20151123-5113.

Comments Due: 5 p.m. ET 12/14/15.

Docket Numbers: ER16-376-000.

Applicants: West Chicago Battery Storage LLC.

Description: § 205(d) Rate Filing: Revised Market-Based Rate Tariff to be effective 1/23/2016.

Filed Date: 11/23/15.

Accession Number: 20151123-5116.

Comments Due: 5 p.m. ET 12/14/15.

Docket Numbers: ER16-377-000.

Applicants: Joliet Battery Storage LLC.

Description: § 205(d) Rate Filing: Revised Market-Based Rate Tariff to be effective 1/23/2016.

Filed Date: 11/23/15.

Accession Number: 20151123-5119.

Comments Due: 5 p.m. ET 12/14/15.

Docket Numbers: ER16-378-000.

Applicants: NorthWestern Corporation.

Description: Compliance filing: Revised Market-Based Rate Tariff to be effective 10/1/2015.

Filed Date: 11/23/15.

Accession Number: 20151123-5148.

Comments Due: 5 p.m. ET 12/14/15.

Docket Numbers: ER16-379-000.

Applicants: Battery Utility of Ohio, LLC.

Description: § 205(d) Rate Filing: Revised Market-Based Rate Tariff to be effective 1/23/2016.

Filed Date: 11/23/15.

Accession Number: 20151123-5180.

Comments Due: 5 p.m. ET 12/14/15.

Docket Numbers: ER16-380-000.

Applicants: NorthWestern Corporation.

Description: § 205(d) Rate Filing: SA 290 Sixth Rev—NITSA with Oldcastle Materials Cement Holdings to be effective 1/1/2016.

Filed Date: 11/23/15.

Accession Number: 20151123-5197.

Comments Due: 5 p.m. ET 12/14/15.

Take notice that the Commission received the following electric reliability filings

Docket Numbers: RD16-2-000.

Applicants: North American Electric Reliability Corporation.

Description: Petition of the North American Electric Reliability Corporation for Approval of Proposed Reliability Standard PRC-005-6.

Filed Date: 11/13/15.

Accession Number: 20151113-5283.

Comments Due: 5 p.m. ET 12/8/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 23, 2015
Nathaniel J. Davis, Sr.,
Deputy Secretary.

[FR Doc. 2015-30424 Filed 11-30-15; 8:45 am]

BILLING CODE 6717-01-P